NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 9, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Risk Management Agency (N1-258-09-8, 1 item, 1 temporary item). Master files of electronic information systems containing actuarial data and other information used to facilitate distribution of program data to insurance providers and producers and to enable insurance providers to sell risk management products to producers.

2. Department of Defense, Office of the Secretary (N1-330-10-2, 1 item, 1 temporary item). Master files of an electronic information system that contains data relating to civilian employees and personnel management, including job applications, resumes, position descriptions, performance plans, performance appraisals, and security clearance status information.

3. Department of Defense, Joint Staff (N1-218-09-6, 1 item, 1 temporary item). Master files of a no longer used electronic information system that contains copies of documents obtained from Defense Department components and other agencies that pertain to such matters as foreign media and events relevant to the war on terrorism.

4. Department of Education, Agency-wide (N1-441-09-10, 2 items, 2 temporary items). Records relating to information collection matters, including requests submitted to the Office of Management and Budget, reports, and master files of an electronic information system used to manage the information collection clearance process.

5. Department of Education, Agency-wide (N1-441-10-1, 13 items, 12 temporary items). Master files of electronic information systems used to manage programs and routine projects. Included are records relating to such matters as enterprise management, operations vulnerability, inspector general activities, special education programs, post-secondary education projects, and civil rights programs. Proposed for permanent retention are records that relate to significant mission-related programs.

6. Department of Education, Federal Student Aid (N1-441-09-26, 2 items, 2 temporary items). Master files of an electronic information system used for assigning personal identification (PIN) numbers to students, parents, and others who use Federal student aid systems.

7. Department of Education, Office for Civil Rights (N1-441-09-1, 2 items, 2 temporary items). Application files used to determine eligibility of school districts for financial assistance under the Magnet Schools Assistance Act.

8. Department of Education, Office of Management (N1-441-09-2, 1 item, 1 temporary item) Applications for transfer of excess real property owned by the agency that are not approved.

9. Department of Education, Office of Management (N1-441-09-3, 4 items, 4 temporary items). Records relating to student loan repayment benefits used to attract or retain personnel for the agency. Included are case files and reports to the Office of Personnel Management.

10. Department of Education, Office of Management (N1-441-09-5, 2 items, 2 temporary items). Applications submitted by agency employees for government-subsidized child care.

11. Department of Health and Human Services, Centers for Medicare & Medicaid Services (N1-440-09-8, 1 item, 1 temporary item). Master files of electronic information systems that contain cost data used to produce pricing modules that support Medicare claims processing.

12. Department of Health and Human Services, Centers for Medicare & Medicaid Services (N1-440-09-14, 1 item, 1 temporary item). Master files of an electronic information system used for finance and accounting.

13. Department of Health and Human Services, Centers for Medicare & Medicaid Services (N1-440-09-18, 1 item, 1 temporary item). Master files of an electronic information system which provides access to systems that contain data concerning medical goods and services providers who support agency health insurance programs.

14. Department of the Interior, Office of the Secretary (N1-48-09-8, 1 item, 1 temporary item). Electronic data relating to labor relations activities, including negotiations, arbitrations, disciplinary actions, grievances, and appeals.

15. Department of the Interior, Office of the Secretary (N1-48-09-11, 1 item, 1 temporary item). Records relating to agency training courses, including manuals, slides, handouts, and compact disks.

16. Department of the Interior, Human Resources Directorate (N1-48-09-12, 1 item, 1 temporary item). Records relating to corrective action reviews, including such records as reports, logs, and monthly review files.

17. Department of the Interior, Office of the Chief Information officer (N1-48-09-13, 1 item, 1 temporary). Records associated with an electronic information system that contains data concerning Freedom of Information Act and Privacy Act requests.

18. Department of Justice, Office of Inspector General (N1-60-09-45, 1 item, 1 temporary item). Master files of an electronic information system used to track due dates and completion dates for physical examinations required for criminal investigators.

19. Department of Justice, Bureau of Prisons (N1-129-09-24, 1 item, 1 temporary item). Master files of an electronic information system that contains data on international transfers of inmates.

20. Department of Justice, U.S. Trustee Program (N1-60-09-52, 1 item, 1 temporary item). Master files of an electronic information system used to track the collection of quarterly fees from Chapter 11 debtors.

21. Department of Transportation, Federal Aviation Administration (N1-237-09-23, 13 items, 10 temporary items). Records relating to budget and financial matters, including budget formulation and execution, accounting and cost management, internal controls, and the management of real and non-real property. Proposed for permanent retention are such records as congressional budget justifications, annual financial statements and other annual financial reports prepared for Congress and oversight agencies, and annual cost accounting reports.

22. Department of Transportation, National Highway Traffic Safety Administration (N1-416-10-1, 1 item, 1 temporary item). Master files of an electronic information system used to allow public access to agency publications through its traffic safety materials catalog.

23. Department of the Treasury, Departmental Offices (N1-56-09-20, 5 items, 3 temporary items). Master files, inputs, and outputs associated with an electronic correspondence management system used to track incoming documentation related to case files, litigation, and other legal matters. Records relating to White House and congressional correspondence are proposed for permanent retention.

24. Department of the Treasury, Alcohol and Tobacco Tax and Trade Bureau (N1-564-09-10, 2 items, 2 temporary items). Inputs and master files of an electronic information system that contains data on industry tax liabilities on regulated products.

25. Department of the Treasury, Internal Revenue Service (N1-58-09-59, 4 items, 4 temporary items). Master files, outputs, and system documentation associated with an electronic information system used to streamline customer service by providing a common user interface.

26. Department of the Treasury, Internal Revenue Service (N1-58-09-85, 2 items, 2 temporary items). Applications for grants used to fund programs which offer tax counseling and assistance to low income and elderly taxpayers.

27. Department of the Treasury, Internal Revenue Service (N1-58-09-87, 2 items, 2 temporary items). Master files and system documentation associated with an electronic information system used to verify the employment status of agency staff.

28. Department of the Treasury, Internal Revenue Service (N1-58-09-89, 3 items, 3 temporary items). Master files and system documentation associated with an electronic information system used to scan and route paper correspondence received from taxpayers.

Dated: March 4, 2010.
Michael J. Kurtz,
Assistant Archivist for Records Services—Washington, DC.

[FR Doc. 2010-5197 Filed 3-9-10; 8:45 am]

BILLING CODE 7515-01-P